EXPORT-IMPORT BANK

Sunshine Act Meetings; Notice of an Open Meeting of the Board of Directors of the Export-Import Bank of the United States

TIME AND DATE: Thursday, December 10, 2020 at 10:00 a.m.

PLACE: The meeting will be held via teleconference.

STATUS: The meeting will be open to public observation by teleconference only.

MATTERS TO BE CONSIDERED:

1. Review of EXIM's Medium- and Long-Term (MLT) Reachback Policy

2. Local Cost Support for Short Term (ST) Insurance and Working Capital Transactions

CONTACT PERSON FOR MORE INFORMATION: Joyce B. Stone (202-257-4086). Members of the public who wish to attend the meeting via audio only teleconference should register via https://attendee.gotowebinar.com/register/7605082646858648589 by noon Wednesday, December 9, 2020. Individuals will be directed to a Webinar registration page and provided call-in information.

Joyce B. Stone,
Assistant Corporate Secretary.

[FR Doc. 2020-26136 Filed 11-20-20; 4:15 pm]

BILLING CODE 6690-01-P